DEPARTMENT OF ENERGY

National Petroleum Council

AGENCY: Office of Fossil Energy, Department of Energy.

ACTION: Notice of renewal.

SUMMARY: Pursuant to the Federal Advisory Committee Act, and Title 41, Code of Federal Regulations, and following consultation with the Committee Management Secretariat, General Services Administration, notice is hereby given that the National Petroleum Council has been renewed for a two-year period.

The Council will continue to provide advice, information, and recommendations to the Secretary of Energy on matters relating to oil and natural gas, or the oil and natural gas industries. The Secretary of Energy has determined that renewal of the National Petroleum Council is essential to the conduct of the Department's business and in the public interest in connection with the performance of duties imposed by law upon the Department of Energy. The Council will continue to operate in accordance with the provisions of the Federal Advisory Committee Act, the General Services Administration Final Rule on Federal Advisory Committee Management, and other directives and instructions issued in implementation of those Acts.

FOR FURTHER INFORMATION CONTACT: Ms. Nancy Johnson at (202) 586-6458; or email: nancy.johnson@hq.doe.gov.

Signed in Washington, DC on January 8, 2020.
Rachael J. Beitler,
Acting Committee Management Officer.

[FR Doc. 2020-00433 Filed 1-13-20; 8:45 am]

BILLING CODE 6450-01-P